DEPARTMENT OF TRANSPORTATION

Pipeline and Hazardous Materials Safety Administration

49 CFR Parts 110 and 178

[Docket No. PHMSA-06-24304 (Notice No. 06-01)]

Regulatory Flexibility Act Section 610 and Plain Language Reviews

AGENCY: Pipeline and Hazardous Materials Safety Administration (PHMSA), DOT.

ACTION: Notice of regulatory review; request for comments.

SUMMARY: PHMSA requests comments on the economic impact of its regulations on small entities. As required by the Regulatory Flexibility Act and as published in DOT's Semi-Annual Regulatory Agenda, we are analyzing the Hazardous Materials Regulations applicable to specifications for non-bulk packagings and training and planning grants. We are also analyzing the Pipeline Safety Regulations applicable to oil pipeline response plans and the hazardous liquid reporting requirements. The purpose of these analyses is to identify requirements that may have a significant economic impact on a substantial number of small entities. We also request comments on ways to make these regulations easier to read and understand.

DATES: Comments must be received by November 6, 2006.

ADDRESSES: You may submit comments identified by the docket number PHMSA-06-24304 (Notice No. 06-01) by any of the following methods:

• Federal eRulemaking Portal: http://www.regulations.gov. Follow the instructions for submitting comments.

• Web site: http://dms.dot.gov. Follow the instructions for submitting comments on the DOT electronic docket site.

• Fax: 1-202-493-2251.

• Mail: Docket Management System; U.S. Department of Transportation, 400 Seventh Street, SW., Nassif Building, Room PL-401, Washington, DC 20590-0001.

• Hand Delivery: To the Docket Management System; Room PL-401 on the plaza level of the Nassif Building, 400 Seventh Street, SW., Washington, DC between 9 a.m. and 5 p.m., Monday through Friday, except Federal holidays.

Instructions: You must include the agency name and docket number PHMSA-06-24304 (Notice No. 06-01) at the beginning of your comment. Note that all comments received will be posted without change to http://dms.dot.gov including any personal information provided. Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://dms.dot.gov.

Docket: You may view the public docket through the Internet at http://dms.dot.gov or in person at the Docket Management System office at the above address.

FOR FURTHER INFORMATION CONTACT: Kevin A. Leary, Office of Hazardous Materials Standards, Pipeline and Hazardous Materials Safety Administration, U.S. Department of Transportation, telephone (202) 366-8553 (for the Hazardous Materials Regulations); Piyali Talukdar, U.S. Department of Transportation, telephone (617) 494-2999 (for the Pipeline Safety Regulations).

SUPPLEMENTARY INFORMATION:

I. Section 610 of the Regulatory Flexibility Act

A. Background and Purpose

Section 610 of the Regulatory Flexibility Act of 1980 (Pub. L. 96-354), as amended by the Small Business Regulatory Enforcement Fairness Act of 1996 (Pub. L. 104-121), requires agencies to conduct periodic reviews of rules that have a significant economic impact on a substantial number of small business entities. The purpose of the review is to determine whether such rules should be continued without change, amended, or rescinded, consistent with the objectives of applicable statutes, to minimize any significant economic impact of the rules on a substantial number of such small entities.

B. Review Schedule

The Department of Transportation (DOT) published its Semiannual Regulatory Agenda on October 31, 2005 (70 FR 64940), listing in Appendix D (70 FR 64954) those regulations that each operating administration will review under section 610 during the following 12 months. Appendix D also contains DOT's 10-year review plan for all of its existing regulations.

The Pipeline and Hazardous Materials Safety Administration (PHMSA, we) has divided its Hazardous Materials Regulations (HMR; 49 CFR parts 171-180) and its Pipeline Safety Regulations (49 CFR parts 190-199) into 10 groups by subject area. Each group will be reviewed once every 10 years, undergoing a two-stage process (an Analysis Year and Section 610 Review Year. For purposes of the review announced in this notice, the Analysis year began in October 2005, coincident with the fall 2005 publication of the Semiannual Regulatory Agenda.

During the Analysis Year, we will analyze each of the rules in a given year's group to determine whether any rule has a significant impact on a substantial number of small entities and, thus, requires review in accordance with section 610 of the Regulatory Flexibility Act. In each fall's Regulatory Agenda, we will publish the results of the analyses we completed during the previous year. For rules that have a negative finding, we will provide a short explanation. For parts, subparts, or other discrete sections of rules that do have a significant impact on a substantial number of small entities, we will announce that we will be conducting a formal section 610 review during the following 12 months.

The section 610 review will determine whether a specific rule should be revised or revoked to lessen its impact on small entities. We will consider: (1) The continued need for the rule; (2) the nature of complaints or comments received from the public; (3) the complexity of the rule; (4) the extent to which the rule overlaps, duplicates, or conflicts with other federal rules or with state or local government rules; and (5) the length of time since the rule has been evaluated or the degree to which technology, economic conditions, or other factors have changed in the area affected by the rule. At the end of the Review Year, we will publish the results of our review.

The following table shows the 10-year analysis and review schedule:

PHMSA Section 610 Review Plan 1999—2009
Title | Regulation | Analysis year | Review year
Incident reports | §§ 171.15 and 171.16 | 1998 | N/A
Hazmat safety procedures | Parts 106 and 107 | 1999 | N/A
General Information, Regulations, and Definitions | Part 171
Pipeline Safety Procedures | Part 190
Hazardous Liquid Pipeline Corrosion Control | Part 195
Carriage by Rail and Highway | Parts 174 and 177 | 2000 | N/A
Gas Pipeline Transportation Reports | Part 191
Gas Pipeline Corrosion Control | Part 192
Carriage by Vessel | Part 176 | 2001 | N/A
Pipeline Employee Drug and Alcohol Testing | Part 199
Radioactive Materials | Parts 172, 173, 174, 175, 176, 177, 178 | 2002 | N/A
Explosives | Parts 172, 173, 174, 176, 177 | 2003 | N/A
Cylinders | Parts 172, 173, 174, 176, 177, 178, 180
Liquefied Natural Gas Facilities | Part 193
Shippers—General Requirements for Shipments and Packagings | Part 173 | 2004 | N/A
Onshore Oil Pipeline Response Plans | Part 194
Specifications for Non-bulk Packagings | Part 178 | 2005/2006 | 2007
Training and Planning Grants | Part 110
Hazardous Liquid Pipeline Transportation | Part 195
Specifications for Bulk Packagings | Parts 178, 179, 180 | 2006 | 2007
State Pipeline Safety Grants | Part 198
Hazardous Materials Table, Special Provisions, Hazardous Materials Communications, Emergency Response Information, and Training Requirements | Part 172 | 2007 | 2008
Carriage by Aircraft | Part 175

C. Regulations Under Analysis

During Year 8 (2006-2007), the Analysis Year, we will conduct a preliminary assessment of the rules in 49 CFR part 178 applicable to specifications for non-bulk packages. The review will include the following subparts:

Part 178
Subpart | Title
Subpart B | Specifications for Inside Containers and Linings.
Subpart L | Non-bulk Performance Oriented Packaging Standards.
Subpart M | Testing of Non-bulk Packagings and Packages.

In addition, we will conduct a preliminary assessment of the rules in 49 CFR part 110 establishing procedures for the Hazardous Materials Public Sector Training and Planning Grants. These regulations include eligibility requirements, grant application procedures, disbursement of Federal funds, grant monitoring, and after-grant requirements.

The oil pipeline response plan regulations in Part 194 and the hazardous liquid pipeline safety regulations in Subpart B of Part 195 are also scheduled for review this year. The Part 194 regulations contain requirements for oil spill response plans to reduce the environmental impact of oil discharged from onshore oil pipelines. Part 195, Subpart B, addresses hazardous liquid reporting requirements, including annual reporting, accident reporting, and reporting of safety related conditions.

We are seeking comments on whether any requirements for training and planning grants in Part 110, specifications for non-bulk packagings in Part 178, oil response plans in Part 194, or hazardous liquid pipeline reporting requirements in Part 195 have a significant impact on a substantial number of small entities. “Small entities” include small businesses, not-for-profit organizations that are independently owned and operated and are not dominant in their fields, and governmental jurisdictions with populations under 50,000. If your business or organization is a small entity and if any of the above described regulatory requirements has a significant economic impact on your business or organization, please submit a comment explaining how and to what degree these rules affect you, the extent of the economic impact on your business or organization, and why you believe the economic impact is significant.

II. Plain Language

A. Background and Purpose

Plain language helps readers find requirements quickly and understand them easily. Examples of plain language techniques include:

(1) Undesignated center headings to cluster related sections within subparts.

(2) Short words, sentences, paragraphs, and sections to speed up reading and enhance understanding.

(3) Sections as questions and answers to provide focus.

(4) Personal pronouns to reduce passive voice and draw readers into the writing.

(5) Tables to display complex information in a simple, easy-to-read format.

For an example of a rule drafted in plain language, you can refer to our final rule entitled “Revised and Clarified Hazardous Materials Safety Rulemaking and Program Procedures,” which was published June 25, 2002 (67 FR 42948). This final rule revised and clarified the hazardous materials safety rulemaking and program procedures by rewriting 49 CFR Part 106 and Subpart A of Part 107 in plain language and creating a new Part 105 that contains definitions and general procedures.

B. Review Schedule

In conjunction with our section 610 reviews, we will be performing plain language reviews of the HMR and pipeline safety regulations over a 10-year period on a schedule consistent with the section 610 review schedule. Thus, our review of requirements in Part 110 applicable to training and planning grants, part 178 applicable to specifications for non-bulk packagings, Part 194 applicable to oil response plans, and Part 195 applicable to hazardous liquid pipeline reporting will also include a plain language review to determine if the regulations can be reorganized and/or rewritten to make them easier to read, understand, and use. We encourage interested persons to submit draft regulatory language that clearly and simply communicates regulatory requirements, and other recommendations, such as putting information in tables or consolidating regulatory requirements, that may make the regulations easier to use.

Issued in Washington, DC, on August 2, 2006.
Robert A. McGuire,
Associate Administrator for Hazardous Materials Safety, Pipeline and Hazardous Materials Safety Administration.

[FR Doc. E6-12859 Filed 8-7-06; 8:45 am]

BILLING CODE 4910-60-P